DEPARTMENT OF THE INTERIOR

National Park Service

[NPS-WASO-NAGPRA-17920; PPWOCRADN0-PCU00RP14.R50000]

Notice of Inventory Completion: Wisconsin Historical Society, Museum Division, Madison, WI

AGENCY: National Park Service, Interior.

ACTION: Notice.

SUMMARY: The Wisconsin Historical Society, Museum Division, has completed an inventory of human remains and associated funerary objects, in consultation with the appropriate Indian tribes or Native Hawaiian organizations, and has determined that there is a cultural affiliation between the human remains and associated funerary objects and present-day Indian tribes or Native Hawaiian organizations. Lineal descendants or representatives of any Indian tribe or Native Hawaiian organization not identified in this notice that wish to request transfer of control of these human remains and associated funerary objects should submit a written request to the Wisconsin Historical Society, Museum Division. If no additional requestors come forward, transfer of control of the human remains and associated funerary objects to the lineal descendants, Indian tribes, or Native Hawaiian organizations stated in this notice may proceed.

DATES: Lineal descendants or representatives of any Indian tribe or Native Hawaiian organization not identified in this notice that wish to request transfer of control of these human remains and associated funerary objects should submit a written request with information in support of the request to the Wisconsin Historical Society, Museum Division, at the address in this notice by May 28, 2015.

ADDRESSES: Jennifer Kolb, Wisconsin Historical Society, Museum Division, Madison, WI 53703-2707, telephone (608) 264-6434, email jennifer.kolb@wisconsinhistory.org.

SUPPLEMENTARY INFORMATION: Notice is here given in accordance with the Native American Graves Protection and Repatriation Act (NAGPRA), 25 U.S.C. 3003, of the completion of an inventory of human remains and associated funerary objects under the control of the Wisconsin Historical Society, Museum Division, Madison, WI. The human remains and associated funerary objects were removed from Grant's Point Chippewa Cemetery on Madeline Island, Ashland County, WI.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by the Wisconsin Historical Society, Museum Division, professional staff in consultation with representatives of the Bad River Band of the Lake Superior Tribe of Chippewa Indians of the Bad River Reservation, Wisconsin; Lac Courte Oreilles Band of Lake Superior Chippewa Indians of Wisconsin; Lac du Flambeau Band of Lake Superior Chippewa Indians of the Lac du Flambeau Reservation of Wisconsin; Red Cliff Band of Lake Superior Chippewa Indians of Wisconsin; Sokaogon Chippewa Community, Wisconsin; and the St. Croix Chippewa Indians of Wisconsin.

History and Description of the Remains

In 1961, human remains representing, at minimum, two individuals (2009.35.AS12 C3584-C3588, C3590-C3594, C3596-C3600; 2009.35.AS12 C3589, C3605-C3608, C3610-C3615, plus one additional unlabeled related fragment F2003.25.2.1) were removed from Grant's Point Chippewa Cemetery in Ashland County, WI. Leland Cooper from Hamline University in Minnesota, along with several archeology students, excavated the Grant's Point Chippewa Cemetery site (47-AS-0012). A single burial was excavated by Cooper's students with the aid of collector Al Galazen; a single skull fragment constitutes the second individual. The remains and funerary objects were then transferred to the Science Museum of Minnesota. In the mid-1970s, the remains and funerary objects were transferred to the Wisconsin Historical Society. No known individuals were identified. The 31 associated funerary objects include 4 brass buttons; 5 silver brooches; 1 collection of white glass beads; 1 lot of fabric fragments; 1 lead and silver brooch fragments; 1 assemblage of hide, bark, wool, silk, thimble, button, and beaded decoration; 1 basket fragment; 1 silver ring; 1 musket ball; 3 gunflint flakes; 1 steel fire striker; 1 set of tweezers; 1 lot of metal awl fragments; 1 knife blade; 1 shot and brooch mold; 1 lead fragment; 1 lot of birchbark fragments; 1 lot of cedar wood fragments and square nails; 1 brass kettle bail; 1 lot of scrapings from brass kettle; 1 brass pail with missing handle; and 1 tin pan.

A relationship of shared group identity that can be reasonably traced between these human remains and funerary objects and the Bad River Band of the Lake Superior Tribe of Chippewa Indians of the Bad River Reservation, Wisconsin, and the Red Cliff Band of Lake Superior Chippewa Indians of Wisconsin who are known to have inhabited the region during the Historic Period. The Grant's Point Chippewa Cemetery site was a small Ojibwe cemetery that has an adjacent Ojibwe village that was in use from the late 18th to early 19th century. Consultation resulted in the identification of the Bad River Band of the Lake Superior Tribe of Chippewa Indians of the Bad River Reservation, Wisconsin, and the Red Cliff Band of Lake Superior Chippewa Indians of Wisconsin as direct descendants of the occupants of the village on Madeline Island.

Determinations Made by the Wisconsin Historical Society, Museum Division

Officials of the Wisconsin Historical Society, Museum Division, have determined that:

• Pursuant to 25 U.S.C. 3001(9), the human remains described in this notice represent the physical remains of two individuals of Native American ancestry.

• Pursuant to 25 U.S.C. 3001(3)(A), the 31 objects described in this notice are reasonably believed to have been placed with or near individual human remains at the time of death or later as part of the death rite or ceremony.

• Pursuant to 25 U.S.C. 3001(2), there is a relationship of shared group identity that can be reasonably traced between the Native American human remains and associated funerary objects and the Bad River Band of the Lake Superior Tribe of Chippewa Indians of the Bad River Reservation, Wisconsin, and the Red Cliff Band of Lake Superior Chippewa Indians of Wisconsin.

Additional Requestors and Disposition

Lineal descendants or representatives of any Indian tribe or Native Hawaiian organization not identified in this notice that wish to request transfer of control of these human remains and associated funerary objects should submit a written request with information in support of the request to Jennifer Kolb, Wisconsin Historical Society, Museum Division, Madison, WI 53703-2707, telephone (608) 264-6434, email Jennifer.kolb@wisconsinhistory.org, by May 28, 2015. After that date, if no additional requestors have come forward, transfer of control of the human remains and associated funerary objects the Bad River Band of the Lake Superior Tribe of Chippewa Indians of the Bad River Reservation, Wisconsin, and the Red Cliff Band of Lake Superior Chippewa Indians of Wisconsin may proceed.

The Wisconsin Historical Society, Museum Division is responsible for notifying the Bad River Band of the Lake Superior Tribe of Chippewa Indians of the Bad River Reservation, Wisconsin; Lac Courte Oreilles Band of Lake Superior Chippewa Indians of Wisconsin; Lac du Flambeau Band of Lake Superior Chippewa Indians of the Lac du Flambeau Reservation of Wisconsin; Red Cliff Band of Lake Superior Chippewa Indians of Wisconsin; Sokaogon Chippewa Community, Wisconsin; and the St. Croix Chippewa Indians of Wisconsin that this notice has been published.

Dated: March 9, 2015.
Mariah Soriano,
Acting Manager, National NAGPRA Program.

[FR Doc. 2015-09909 Filed 4-27-15; 8:45 am]

BILLING CODE 4312-50-P